DEPARTMENT OF ENERGY

Federal Energy Regulatory Commission

[Docket Nos. CP02-60-004; CP04-64-000]

Trunkline LNG Company, LLC; Trunkline Gas Company, LLC; Notice of Availability of the Environmental Assessment for the Proposed Trunkline LNG and Loop Project

July 29, 2004.

The staff of the Federal Energy Regulatory Commission (FERC or Commission) has prepared an environmental assessment (EA) on the natural gas pipeline facilities proposed by Trunkline LNG Company, LLC (Trunkline LNG) and Trunkline Gas Company, LLC (Trunkline Gas) in the above-referenced docket numbers.

The EA was prepared to satisfy the requirements of the National Environmental Policy Act. The staff concludes that approval of the proposed project, with appropriate mitigating measures, would not constitute a major Federal action significantly affecting the quality of the human environment.

The EA assesses the potential environmental effects of the construction and operation of the proposed Trunkline Gas wants to expand the capacity of its facilities in Louisiana.

In Docket No. CP02-60-004, Trunkline LNG proposes to:

• Convert an LNG vessel lay berth to a LNG ship unloading dock with three liquid unloading arms and one vapor return/delivery arm at the import terminal;

• Construct a desuperheater knockout drum;

• Construct three 200 million standard cubic feet per day (MMscf/d) second stage pumps;

• Construct four 150 MMscf/d submerged combustion vaporizers; and

• Construct an additional fuel gas heater.

In Docket No. CP04-64-000, Trunkline Gas seeks authority to:

• Construct 22.2 miles of 30-inch-diameter pipeline from the Trunkline LNG Import Terminal at milepost (MP) 0.0 to the Trunkline Gas Lakeside Pipeline Gate 203A (MP 22.2);

• Construct 0.6 mile of 30-inch-diameter pipeline inside the Trunkline LNG Import Terminal;

• Construct a new meter station facility at the existing Trunkline LNG Import Terminal for receipt of regassified LNG into the proposed loop;

• Construct four new meter facilities for interconnections with 1) Calcasieu Gas Gathering System (Calcasieu Gas) at MP 0.0 in Calcasieu Parish; 2) Sabine Gas Transmission Company (MP 8.1) in Calcasieu Parish; 3) Texas Gas Transmission Corporation (MP L-191.6) ¹ in Jefferson Davis Parish; and 4) Tennessee Gas Pipeline Company (MP L-198.1) in Calcasieu Parish;

¹ MP L-is the milepost designation for the existing 30-inch-diameter LNG Lateral, which is part of Trunkline Gas' Lakeside Pipeline System.

• Modify two existing meter stations on Trunkline's Lakeside Pipeline System to increase capacity at the Texas Eastern Transmission, LP's delivery point interconnection (MP L-203.9) to 500,000 decatherms per day (Dth/day) and Transcontinental Gas Pipe Line Corporation's (Transco) Ragley delivery point interconnection (MP L-203.4) to 500,000 Dth/day in Beauregard Parish, Louisiana.

The purpose of the proposed facilities would be to transport an additional 2.1 billion cubic feet per day for service to Trunkline Gas' customers.

The EA has been placed in the public files of the FERC. A limited number of copies of the EA are available for distribution and public inspection at: Federal Energy Regulatory Commission, Public Reference and Room, 888 First Street, NE., Room 2A, Washington, DC 20426, (202) 502-8371.

Copies of the EA have been mailed to Federal, State and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the (Gas Branch 2 and LNG Engineering Branch), PJ11.2;

• Reference Docket Nos. CP02-60-004 and CP04-64-000; and

• Mail your comments so that they will be received in Washington, DC, on or before August 30, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

Comments will be considered by the Commission but will not serve to make the commentor a party to the proceeding. Any person seeking to become a party to the proceeding must file a motion to intervene pursuant to Rule 214 of the Commission's Rules of Practice and Procedures (18 CFR 385.214).² Only intervenors have the right to seek rehearing of the Commission's decision.

² Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659 or at FERCOnlineSupport@ferc.gov. The eLibrary link on the FERC Internet website also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov, click on “eSubscription” and then click on “Sign-up.”

Magalie R. Salas,
Secretary.

[FR Doc. E4-1727 Filed 8-3-04; 8:45 am]

BILLING CODE 6717-01-P